FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011117-056.

Title: United States/Australasia Discussion Agreement.

Parties: ANL Singapore Pte Ltd.; CMA-CGM.; Hamburg-Süd; Mediterranean Shipping Company S.A.; and Pacific International Lines (PTE) LTD.

Filing Party: Wayne R. Rohde, Esq.; Cozen O'Connor; 1200 Nineteenth Street NW.; Washington, DC 20036.

Synopsis: The amendment revises Appendix A to remove the names of the former parties that previously resigned from the Agreement and revises Appendix B to adjust minimum levels of service in light of those resignations.

Agreement No.: 012329-002.

Title: COSCON/HSD Slot Charter Agreement, Asia-U.S. East Coast.

Parties: Hamburg Sudamerikanische Dampfschifffahrts-Gesellschaft KG; COSCO Container Lines Company, Limited (COSCON).

Filing Party: Eric Jeffrey, Esq.; Nixon Peabody LLP; 799 9th St. NW., Suite 500; Washington, DC 20001.

Synopsis: The amendment implements the transition from CSCL to COSCON, reduces the scope of authority from a slot exchange to a slot charter from COSCON to HSD, and adds Vietnam to the geographic scope.

By Order of the Federal Maritime Commission.
Dated: August 19, 2016.
Rachel E. Dickon,
Assistant Secretary.

[FR Doc. 2016-20318 Filed 8-24-16; 8:45 am]

BILLING CODE 6731-AA-P